DEPARTMENT OF TRANSPORTATION

Federal Aviation Administration

Field Approval Process

AGENCY: Federal Aviation Administration (FAA) DOT.

ACTION: Notice of meeting.

SUMMARY: The Federal Aviation Administration (FAA) is issuing this notice to advise the public of a meeting to discuss public concerns with the FAA Field Approval Process.

DATES: The meeting will be held on February 23, 2001, 9 A.M. to 4 P.M. Arrangement for presentations must be made by February 16, 2001.

ADDRESSES: The meeting will be held at the FAA 3rd Floor Auditorium, 800 Independence Ave, SW, Washington, DC 20591.

FOR FURTHER INFORMATION CONTACT: Wayne Fry, Federal Aviation Administration, AFS-300, 800 Independence Avenue, SW., Washington, DC 20591, telephone (202) 493-5228 fax (202) 267-5115.

SUPPLEMENTARY INFORMATION: The meeting will be held on February 23, 2000, from 9 A.M. to 4 P.M., at the FAA 3rd floor Auditorium, Washington, DC. The agenda will include: Field Approval Process Improvement.

Attendance is open to the interested public, but will be limited to the space available. The public must make arrangements by February 16, 2001, to present oral statements at the meeting. To make arrangements to present oral statements, please contact the person listed under the head for FOR FURTHER INFORMATION CONTACT. If you are in need of assistance or require a reasonable accommodation for the meeting please contact the person listed under the heading for FOR FURTHER INFORMATION CONTACT. In addition, sign and oral interpretation can be made available at the meeting, as well as an assistive listening device, if requested 10 calendar days before the meeting. Arrangements may be made by contacting the person listed under the heading FOR FURTHER INFORMATION CONTACT.

Issued in Washington, DC, on January 17, 2001.
L. Nicholas Lacey,
Director, Flight Standards Service.

[FR Doc. 01-1857 Filed 1-19-01; 8:45 am]

BILLING CODE 4910-13-M